DEPARTMENT OF LABOR

Employment and Training Administration

[NAFTA-005906A]

Laclede Steel Company Vandalia, IL; Notice of Termination of Investigation

Pursuant to Title V of the North American Free Trade Agreement Implementation Act (Pub. L. 103-182) concerning transitional adjustment assistance, hereinafter called NAFTA-TAA and in accordance with Section 220(a), Subchapter D, Chapter 2, Title II, of the Trade Act of 1974, as amended (19 U.S.C. 2331), an investigation was initiated on February 14, 2002 in response to a worker petition which was filed by United Steelworkers of America and dated August 24, 2001 on behalf of workers at Laclede Steel Company, Vandalia, Illinois.

A negative determination applicable to the petitioning group of workers was issued on December 20, 2001 (NAFTA-005310). No new information is evident which would result in a reversal of the Department's previous determination. Consequently, further investigation in this case would serve no purpose, and the investigation has been terminated.

Signed in Washington, DC this 11th day of April, 2002.
Linda G. Poole,
Certifying Officer, Division of Trade Adjustment Assistance.

[FR Doc. 02-9751 Filed 4-19-02; 8:45 am]

BILLING CODE 4510-30-M